DEPARTMENT OF ENERGY

Federal Energy Regulatory Commission

[Docket No. RP00-241-000]

Public Utilities Commission of the State of California v. El Paso Natural Gas Company, El Paso Merchant Energy-Gas, L.P., and El Paso Merchant Energy Company; Notice of Complaint

April 6, 2000.

Take notice that on April 4, 2000, pursuant to Rule 206 of the Federal Energy Regulatory Commission's (Commission) Rules of Practice and Procedure, 18 CFR 385.206, and Section 5 of the Natural Gas Act, 15 U.S.C. 717d, the Public Utilities Commission of the State of California (CPUC) filed a Complaint against El Paso Natural Gas Company (El Paso) and its marketing affiliates, El Paso Merchant Energy-Gas, L.P. and El Paso Merchant Energy Company (collectively El Paso Merchant), challenging the justness and reasonableness and anti-competitive effects of three contracts between El Paso and El Paso Merchant (dated February 15-17, 2000) in which El Paso Merchant acquired approximately 1220 MMcf/d of firm capacity rights on El Paso to the California border. The CPUC’s Complaint further raises affiliate abuse issues relating to El Paso Merchant’s acquisition and use of these capacity rights on El Paso.

The CPUC specifically requests that the Commission issue an order terminating El Paso's contracts with El Paso Merchant, or, at a minimum, that the Commission require El Paso Merchant to release on a short-term basis any unused firm transportation rights under these contracts. In addition, the CPUC requests that the Commission order El Paso to delete restrictions (under one of the contracts) on the recallability of Block II capacity rights.

Any person desiring to be heard or to protest this filing should file a motion to intervene or protest with the Federal Energy Regulatory Commission, 888 First Street NE, Washington, DC 20426, in accordance with Rules 211 and 214 of the Commission's Rules of Practice and Procedure (18 CFR 385.211 and 385.214). All such motions or protests must be filed on or before April 24, 2000. Protests will be considered by the Commission in determining the appropriate action to be taken, but will not serve to make protestants parties to the proceeding. Any person wishing to become a party must file a motion to intervene. Copies of this filing are on file with the Commission and are available for public inspection in the Public Reference Room. This filing may also be viewed on the Internet at ­http://www.ferc.fed.us/online/rims.htm (call 202-208-2222) for assistance. Answers to the complaint shall also be due on or before April 24, 2000.

David P. Boergers,
Secretary.

[FR Doc. 00-9031 Filed 4-11-00; 8:45 am]

BILLING CODE 6717-01-M